GENERAL SERVICES ADMINISTRATION

[OMB Control No. 3090-0274; Docket 2015-0001; Sequence 18]

Submission for OMB Review; Public Buildings Service; Art-in-Architecture Program National Artist Registry, GSA Form 7437

AGENCY: Public Buildings Service, General Services Administration (GSA).

ACTION: Notice of request for comments regarding an extension to an existing OMB clearance.

SUMMARY: Under the provisions of the Paperwork Reduction Act, the Regulatory Secretariat Division will be submitting to the Office of Management and Budget (OMB) a request to review and approve an extension of a previously approved information collection requirement regarding Art-in Architecture Program National Artist Registry, GSA Form 7437. A notice was published in the Federal Register at 80 FR 79897 on December 23, 2015. One comment was received.

The Art-in-Architecture Program is the result of a policy decision made in January 1963 by GSA Administrator Bernard L. Boudin, who served on the Ad Hoc Committee on Federal Office Space in 1961-1962.

The program has been modified over the years, most recently in 2009, when a requirement was instituted that all artists who want to be considered for any potential GSA commission must be included on the National Artists Registry, which serves as the qualified list of eligible artists. The program continues to commission works of art from living American artists. One-half of one percent of the estimated construction cost of new or substantially renovated Federal buildings and U.S. courthouses is allocated for commissioning works of art.

DATES: Submit comments on or before April 4, 2016.

FOR FURTHER INFORMATION CONTACT: Ms. Jennifer Gibson, Office of the Chief Architect, Art-in-Architecture & Fine Arts Division (PCAC), 1800 F Street NW., Room 5400 PCAC, Washington, DC 20405, at telephone 202-501-0930 or via email at jennifer.gibson@gsa.gov.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov. Submit comments via the Federal eRulemaking portal by searching the OMB control number. Select the link “Submit a Comment” that corresponds with “Information Collection 3090-0274, Art-in-Architecture Program National Artist Registry, GSA Form 7437”. Follow the instructions provided at the “Submit a Comment” screen. Please include your name, company name (if any), and “Information Collection 3090-0274, Art-in-Architecture Program National Artist Registry, GSA Form 7437” on your attached document.

• Mail: General Services Administration, Regulatory Secretariat Division (MVCB), 1800 F Street NW., Washington, DC 20405. ATTN: Ms. Flowers/IC 3090-0274, Art-in-Architecture Program National Artist Registry, GSA Form 7437.

Instructions: Please submit comments only and cite Information Collection 3090-0274, Art-in-Architecture Program National Artist Registry, GSA Form 7437, in all correspondence related to this collection. Comments received generally will be posted without change to http://www.regulations.gov, including any personal and/or business confidential information provided. To confirm receipt of your comment(s), please check www.regulations.gov, approximately two to three days after submission to verify posting (except allow 30 days for posting of comments submitted by mail).

SUPPLEMENTARY INFORMATION:

A. Purpose

The Art-in-Architecture Program actively seeks to commission works from the full spectrum of American artists and strives to promote new media and inventive solutions for public art. The GSA Form 7437, Art-in-Architecture Program National Artist Registry, will be used to collect information from artists across the country to participate and to be considered for commissions.

B. Discussion and Analysis

From GSA Form 7437

Instructions: Return this form with a current resume and up to 20 digital images of the artist's work created within the last ten years to the address below. Please use jpeg format 10 x 7.5 inches at 72 dpi. On a separate sheet, for each image please include the name of artist, title of work, date, medium/materials, and dimensions.

Comment: In the National Artist Registry Instructions, #2 states that artist is to submit 20 images of work within the last 10 years. On Form GSA 7437, instructions state the artist is to submit 20 images of work within the last 5 years.

Response: GSA Form 7437 instructions should be changed to say that the artist is to submit 20 images of work within the last ten years.

Public comments are particularly invited on: Whether this collection of information is necessary and whether it will have practical utility; whether our estimate of the public burden of this collection of information is accurate and based on valid assumptions and methodology; and ways to enhance the quality, utility, and clarity of the information to be collected.

C. Annual Reporting Burden

Respondents: 300.

Responses per Respondent: 1.

Total Responses: .25.

Hours per Response: .25.

Total Burden Hours: 75.

Obtaining Copies of Proposals: Requesters may obtain a copy of the information collection documents from the General Services Administration, Regulatory Secretariat Division (MVCB), 1800 F Street NW., Washington, DC 20405, telephone 202-501-4755. Please cite OMB Control No. 3090-0274, Art-in-Architecture Program National Artist Registry, GSA Form 7437, in all correspondence.

Dated: February 29, 2016.
David A. Shive,
Chief Information Officer.

[FR Doc. 2016-04803 Filed 3-3-16; 8:45 am]

BILLING CODE 6820-34-P